DEPARTMENT OF THE INTERIOR

National Park Service

Notice of Scoping for Commercial Services Plan; Haleakala National Park, Maui, HI

Summary: Pursuant to requirements of the National Environmental Policy Act of 1969 (Pub. L. 91-190), the National Park Service is initiating the conservation planning and environmental impact analysis process regarding a commercial services plan proposed for Haleakala National Park. This Notice initiates scoping for the process that is expected to result in changes to the types of commercial services offered in the park and the way they are managed by the park. Haleakala National Park proposes to develop a long-term Commercial Services Plan (CSP) so that increasing visitor use may be accommodated in a manner compatible with the park's mission; and to assure that a full range of necessary and appropriate commercial services are developed and managed so that potential impacts to cultural and natural resources and visitor experience would be minimized. The CSP will be consistent with the park's mission and purpose statements and management goals as specified in legislation and as outlined in the Strategic Plan for Haleakala National Park (fiscal year 2005-2008).

Background and Preliminary Issues: Thus far, topics considered necessary to address in developing the CSP include: Assessing if, or the degree to which, commercial service uses of the park and overcrowding are contributing to the degradation of natural and cultural resources, as well as adversely affecting visitor use and appreciation of the park; determining whether public health and safety are being compromised through uncontrolled uses of the park; and evaluating whether commercial services are operated in a manner that is consistent with the mission of the park and/or whether there is a consistent portrayal by commercial service operators of the park message.

Information from the public and interested groups is desired so that all pertinent issues and concerns which should be addressed in the conservation planning and environmental impact analysis for the CSP may be identified. At this time, the preliminary range of issues and public concerns deemed necessary to consider include the following:

Sunrise atop Haleakala is one of the most promoted tourist activities offered by the visitor industry on Maui. The Summit area of the park frequently receives over 1,300 visitors at sunrise. The concentration of visitor use has resulted in trampling of threatened and endangered plant species, increased social trailing resulting in accelerated erosion, and introduction of non-native species. Sunrise visitation has increased over the past decade to a point that visitors in private vehicles are turned away from parking areas filled beyond capacity on a regular basis by commercial vehicles. Members of the park's Kipuna Groups on Maui indicated that the sacredness of the Haleakala Summit area is diminished by too many people visiting the site, and opportunities to conduct cultural practices in peace are limited. More than one in five visitors to the Haleakala Visitor Center before 8 a.m. felt moderately or more crowded; more than one third of the visitors surveyed before 8 a.m. saw more people than they think the park should allow.

Throughout the day, there are other significant peaks of visitation that result in facilities at many park destinations being filled beyond capacity by visitors arriving in private vehicles or on commercial tours (often with simultaneous arrival of several commercial operators). When the parking areas are filled, health and safety concerns result due to inability of emergency vehicles (ambulance, law enforcement, and fire apparatus) to rapidly access these areas.

Other NPS concerns include degradation of various park trails resulting partially from commercial horse tour activities. In the Summit Area, trails are used jointly by hikers and by horse riders. The trails are located in fragile ecosystems where the trail tread does not hold up well to excessive use resulting in un-natural erosion. At the trailheads and along the first three to five miles into the backcountry and designated Wilderness, trail crowding from multiple users including commercial horse and hiking tours is diminishing the experience of solitude in Wilderness. The mixed use also leads to conflicts and off-trail damage as hikers seek to move away from dust, manure, and smell of horses. Current permits allow for limited sizes of groups but do not regulate numbers of trips per day or per week.

Presently commercial use activities in the Kipahulu area includes guided and unguided hikes along the park's existing visitor trails and horse tour guided trips on a separate trail designated for horses only. Commercial tours typically leave from the same pick-up points and arrive at generally the same time at Kipahulu; this combined with tour vans and buses of various sizes crowd into the parking area causing traffic congestion and crowded hiking (which in turn prompts trampling of vegetation and unsafe off-trail use). Visitor injuries and deaths have occurred in these stream areas and the park discourages visitors from entering these pools and narrow areas.

Privately guided hiking activities in the Kipahulu area may also be contributing to formation of social (unauthorized) trails that follow the stream corridor and lead to upstream pools. All park visitors and service providers should be using NPS authorized and maintained trail to minimize resource; the deep trail substrate combined with very high average rainfall causes erosion, deep trenching, and very slippery and dangerous conditions.

Scoping Process: At this time, the NPS invites the public, other Federal agencies, Native Hawaiian groups, state and local governments, and all other interested parties to participate in the initial scoping and in the alternative development process. For initial scoping and alternatives development, the most useful comments are those that provide the NPS with assistance in identifying environmental issues, suitable range of alternatives, and other concerns that should be considered early in the commercial services and environmental planning process for these projects. At this time it has not been determined if an Environmental Assessment or an Environmental Impact Statement will be prepared. Although it is anticipated that an Environmental Assessment will be the appropriate level of environmental compliance, this scoping process will aid in the preparation of either document (and responses during this scoping period will be helpful in making this determination).

All respondents to this Notice will be included in a mailing list to be used to invite review and comment on the subsequent environmental document. The public scoping period for the commercial services plan has been initiated—all written comments must be postmarked or transmitted not later than 60 days from the date of publication of this Notice (as soon as this date can be confirmed it will be announced on the park's Web site). Interested individuals, organizations, and agencies wishing to provide written comments may respond by regular mail to Commercial Services Plan, c/o Superintendent, Haleakala National Park, P.O. Box 369, Makawao, Maui, HI 96768 (or via e-mail c/o HALE_CSP@nps.gov).

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Public Meetings: The NPS will also conduct a public scoping meeting and open house to provide information about this project, to discuss issues and concerns informally with NPS representatives and to receive written comments. These scoping activities will be conducted on October 17 and 18, 2006. The October 17th meeting will be at 6 p.m. at Helene Hall in Hana. The October 18th meeting will be at 6 p.m. at the Mayor Hanibal Tavares Community Center in Pukulani.

Future Information and Decision Process: Future information about this conservation planning and environmental impact analysis process for the proposed commercial services plan will be distributed via direct mailings and announcements in regional and local news media, and updates will be regularly posted on the park's Web site (http://www.nps.gov/hale). Availability of the forthcoming environmental document for review and written comment will be announced by local and regional news media, the above listed Web site, direct mailing (or in the case of an EIS, also by formal Notice of Availability of a Draft EIS published in the Federal Register). At this time the document is anticipated to be available for public review and comment in late summer, 2007. Comments on the document will be fully considered in the environmental decision-making process and responded to as appropriate. The official responsible for the decision is the Regional Director, Pacific West Region, National Park Service; subsequently the official responsible for implementation would be the Superintendent, Haleakala National Park.

Dated: August 31, 2006.
Patricia L. Neubacher,
Acting Regional Director, Pacific West Region.

[FR Doc. 06-9464 Filed 11-29-06; 8:45 am]

BILLING CODE 4312-50-M